DEPARTMENT OF ENERGY

Federal Energy Regulatory Commission

Combined Notice of Filings #1

Take notice that the Commission received the following Complaints and Compliance filings in EL Dockets:

Docket Numbers: EL23-57-001.

Applicants: Lee County Generating Station, LLC v. PJM Interconnection, L.L.C.

Description: Motion for Stay, or in the Alternative Limited Waiver or Remedial Relief, Request for Immediate Alternative Dispute Resolution, and Request for Waivers and Expedited Action of Lee County Generating Station, LLC.

Filed Date: 4/5/23.

Accession Number: 20230405-5183.

Comment Date: 5 p.m. ET 4/20/23.

Docket Numbers: EL23-59-000.

Applicants: Lincoln Generating Facility, LLC v. PJM Interconnection, L.L.C.

Description: Complaint of Lincoln Generating Facility, LLC v. PJM Interconnection, L.L.C.

Filed Date: 4/6/23.

Accession Number: 20230406-5213.

Comment Date: 5 p.m. ET 5/8/23.

Take notice that the Commission received the following electric rate filings:

Docket Numbers: ER23-807-001.

Applicants: Southern California Edison Company.

Description: Tariff Amendment: Response to Deficiency, BCE Los Alamitos 2 First Amend GIA-DSA, WDT1583 to be effective 3/13/2023.

Filed Date: 4/7/23

Accession Number: 20230407-5038.

Comment Date: 5 p.m. ET 4/28/23.

Docket Numbers: ER23-1575-000.

Applicants: Homer Solar Energy Center, LLC.

Description: Homer Solar Energy Center, LLC Petitions for a Limited, Prospective Waiver of Section 30.4.4.5.1 of the NYISO OATT.

Filed Date: 4/3/23.

Accession Number: 20230403-5359.

Comment Date: 5 p.m. ET 4/24/23.

Docket Numbers: ER23-1588-000.

Applicants: ISO New England Inc., New England Power Pool Participants Committee.

Description: § 205(d) Rate Filing: ISO New England Inc. submits tariff filing per 35.13(a)(2)(iii: ISO-NE/NEPOOL; Revisions to Update the Inventoried Energy Program to be effective 6/6/2023.

Filed Date: 4/7/23.

Accession Number: 20230407-5030.

Comment Date: 5 p.m. ET 4/28/23.

Docket Numbers: ER23-1589-000.

Applicants: AES ES Westwing, LLC.

Description: Baseline eTariff Filing: AES ES Westwing, LLC MBR Tariff to be effective 5/1/2023.

Filed Date: 4/7/23.

Accession Number: 20230407-5067.

Comment Date: 5 p.m. ET 4/28/23.

Docket Numbers: ER23-1590-000.

Applicants: Midcontinent Independent System Operator, Inc.

Description: § 205(d) Rate Filing: 2023-04-07_SA 3393 Ameren IL-Sapphire Sky Wind 4th Rev GIA (J826 J1022) to be effective 3/28/2023.

Filed Date: 4/7/23.

Accession Number: 20230407-5068.

Comment Date: 5 p.m. ET 4/28/23.

Docket Numbers: ER23-1591-000.

Applicants: Westlands Transmission, LLC.

Description: § 205(d) Rate Filing: Second Amended TSA with Castanea Project LLC transfer from Chestnut to be effective 4/8/2023.

Filed Date: 4/7/23.

Accession Number: 20230407-5074.

Comment Date: 5 p.m. ET 4/28/23.

Docket Numbers: ER23-1592-000.

Applicants: PJM Interconnection, L.L.C.

Description: § 205(d) Rate Filing: Original WMPA, SA No. 6868; Queue No. AF2-165 to be effective 3/14/2023.

Filed Date: 4/7/23.

Accession Number: 20230407-5076.

Comment Date: 5 p.m. ET 4/28/23.

Docket Numbers: ER23-1593-000.

Applicants: Southwest Power Pool, Inc.

Description: § 205(d) Rate Filing: Tariff Clean-Up Filing for Evergy Metro, Inc.—Effective 20210401 to be effective 4/1/2021.

Filed Date: 4/7/23.

Accession Number: 20230407-5094.

Comment Date: 5 p.m. ET 4/28/23.

Docket Numbers: ER23-1594-000.

Applicants: Hecate Energy Desert Storage 1 LLC.

Description: Baseline eTariff Filing: Application for Market-Based Rate Authority to be effective 6/7/2023.

Filed Date: 4/7/23.

Accession Number: 20230407-5103.

Comment Date: 5 p.m. ET 4/28/23.

Docket Numbers: ER23-1595-000.

Applicants: LRE Energy Services, LLC.

Description: Baseline eTariff Filing: Market-Based Rate Application to be effective 6/7/2023.

Filed Date: 4/7/23.

Accession Number: 20230407-5125.

Comment Date: 5 p.m. ET 4/28/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2023.
Debbie-Anne A. Reese,
Deputy Secretary.

[FR Doc. 2023-07778 Filed 4-12-23; 8:45 am]

BILLING CODE 6717-01-P